DEPARTMENT OF THE INTERIOR

Bureau of Land Management

[DOI-2023-0022; LLHQ510000, L18500000.YC0000, LIITRCM10000, 245]

Privacy Act of 1974; System of Records

AGENCY: Bureau of Land Management, Interior.

ACTION: Rescindment of systems of records notices.

SUMMARY: The Department of the Interior (DOI) is issuing a public notice of its intent to rescind four Bureau of Land Management (BLM) Privacy Act systems of records notices (SORNs): INTERIOR/BLM-10, Vehicle Use Authorization; INTERIOR/BLM-18, Criminal Case Investigation; INTERIOR/BLM-19, Civil Trespass Case Investigations; and INTERIOR/BLM-30, Uniform Accountability System, from its existing inventory. During an annual review it was determined they are duplicative and covered by other DOI published SORNs. This rescindment will promote the overall streamlining and management of DOI's Privacy Act systems of records.

DATES: These changes take effect on January 12, 2024.

ADDRESSES: You may send comments identified by docket number [DOI-2023-0022] by any of the following methods:

• Federal eRulemaking Portal: https://www.regulations.gov. Follow the instructions for sending comments.

• Email: DOI_Privacy@ios.doi.gov. Include docket number [DOI-2023-0022] in the subject line of the message.

• U.S. Mail or Hand-Delivery: Teri Barnett, Departmental Privacy Officer, U.S. Department of the Interior, 1849 C Street NW, Room 7112, Washington, DC 20240.

Instructions: All submissions received must include the agency name and docket number [DOI-2023-0022]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Phyllis St. John, Acting Associate Privacy Officer, Bureau of Land Management, 1849 C Street NW, Room No. 5644, Washington, DC 20240, blm_wo_privacy@blm.gov or (202) 281-0131.

SUPPLEMENTARY INFORMATION: Pursuant to the provisions of the Privacy Act of 1974, as amended, 5 U.S.C. 552a, the DOI is rescinding the following four BLM SORNs from its inventory. The Office of Management and Budget (OMB) requires that each agency provide assurance that system notices do not duplicate any existing agency or government-wide SORNs. Accordingly, the following BLM SORNs were identified for rescindment during a routine review, as it was determined these SORNs are covered under three Department-wide SORNs. Therefore, DOI is rescinding these four BLM SORNs to avoid duplication of existing SORNs in accordance with the OMB Circular A-108, Federal Agency Responsibilities for Review, Reporting, and Publication under the Privacy Act.

INTERIOR/BLM-10, Vehicle Use Authorization, 42 FR 19113 (April 11, 1977); modification published at 73 FR 17376 (April 1, 2008) and 86 FR 50156 (September 7, 2021). This system helped BLM maintain records of authorized uses of government vehicles by BLM employees. The records contained in the system of records are covered by and maintained in INTERIOR/DOI-58, Employee Administrative Records, 64 FR 19384 (April 20, 1999); modification published at 73 FR 8342 (February 13, 2008) and 86 FR 50156 (September 7, 2021).

INTERIOR/BLM-18, Criminal Case Investigation, 47 FR 55317 (December 8, 1982); modification published at 73 FR 17376 (April 1, 2008) and 86 FR 50156 (September 7, 2021). This system helped the BLM maintain records to manage incidents, accidents, and criminal investigations and support law enforcement activities. The records contained in the system of records are covered by and maintained in INTERIOR/DOI-10, Incident Management, Analysis and Reporting System, 79 FR 31974 (June 3, 2014); modification published at 86 FR 50156 (September 7, 2021).

INTERIOR/BLM-19, Civil Trespass Case Investigations, 47 FR 55317 (December 8, 1982); modification published at 73 FR 17376 (April 1, 2008) and 86 FR 50156 (September 7, 2021). This system helped the BLM accumulate investigative data to determine whether a trespass had been committed. The records contained in the system of records are covered by and maintained in INTERIOR/DOI-10, Incident Management, Analysis and Reporting System, 79 FR 31974 (June 3, 2014); modification published at 86 FR 50156 (September 7, 2021).

INTERIOR/BLM-30, Uniform Accountability System, 52 FR 36635 (September 30, 1987); modification published at 73 FR 17376 (April 1, 2008) and 86 FR 50156 (September 7, 2021). This system helped the BLM maintain internal processing and tracking of issuance and expenditures for BLM individuals authorized to wear uniforms. The administrative and financial records contained in the system of records are covered by and maintained in INTERIOR/DOI-58, Employee Administrative Records, 64 FR 19384 (April 20, 1999); modification published at 73 FR 8342 (February 13, 2008) and 86 FR 50156 (September 7, 2021), and INTERIOR/DOI-87, Acquisition of Goods and Services: FBMS, 73 FR 43766 (July 28, 2008); modification published at 86 FR 50156 (September 7, 2021).

These four SORNs were identified as no longer needed due to being superseded by other published SORNs. Rescinding these SORNs will have no adverse impacts on individuals as the records are covered by other published Department-wide SORNs. This rescindment will also promote the overall streamlining and management of DOI Privacy Act systems of records. This notice hereby rescinds the BLM SORNs identified below.

SYSTEM NAME AND NUMBER:

INTERIOR/BLM-10, Vehicle Use Authorization.

INTERIOR/BLM-18, Criminal Case Investigation.

INTERIOR/BLM-19, Civil Trespass Case Investigations.

INTERIOR/BLM-30, Uniform Accountability System.

HISTORY:

INTERIOR/BLM-10, Vehicle Use Authorization, 42 FR 19113 (April 11, 1977); modification published at 73 FR 17376, (April 1, 2008) and 86 FR 50156 (September 7, 2021).

INTERIOR/BLM-18, Criminal Case Investigation, 47 FR 55317 (December 8, 1982); modification published at 73 FR 17376 (April 1, 2008) and 86 FR 50156 (September 7, 2021).

INTERIOR/BLM-19, Civil Trespass Case Investigations, 47 FR 55317 (December 8, 1982); modification published at 73 FR 17376 (April 1, 2008) and 86 FR 50156 (September 7, 2021).

INTERIOR/BLM-30, Uniform Accountability System 52 FR 36635 (September 30, 1987); modification published at 73 FR 17376 (April 1, 2008) and 86 FR 50156 (September 7, 2021).

Teri Barnett,
Departmental Privacy Officer, Department of the Interior.

[FR Doc. 2024-00551 Filed 1-11-24; 8:45 am]

BILLING CODE 4310-HC-P